DEPARTMENT OF THE INTERIOR

Bureau of Land Management

[WO-320-1330-PB-24 1A]

Revision of Approved Information Collection, OMB Control Number 1004-0169

AGENCY: Bureau of Land Management, Interior.

ACTION: Notice and request for comments.

SUMMARY: The Bureau of Land Management (BLM) has submitted an Information Collection Request (ICR) to the Office of Management and Budget (OMB) for approval under the provisions of the Paperwork Reduction Act (44 U.S.C. 3501 et seq.). The ICR is scheduled to expire on July 31, 2008. The BLM may not conduct or sponsor and a person is not required to respond to a collection of information unless it displays a currently valid OMB control number. However, under OMB regulations, the BLM may continue to conduct or sponsor this information collection while it is pending at OMB. On January 25, 2008, the BLM published the required 60-day notice in the Federal Register (73 FR 4621), requesting comments on this proposed collection. The comment period ended on March 25, 2008. The BLM received no comments. You may obtain copies of the proposed collection of information and related forms and explanatory material by contacting the BLM Information Collection Clearance Officer at the telephone number listed in the ADDRESSES section below.

DATES: The OMB is required to respond to this request within 60 days but may respond after 30 days. Submit your comments and suggestions to OMB at the address below by July 23, 2008 to receive maximum consideration.

ADDRESSES: Send your comments and suggestions on this ICR directly to the Office of Management and Budget, Interior Department Desk Officer (1004-0169), at OMB-OIRA via facsimile to (202) 395-6566 or e-mail to OIRA_DOCKET@omb.eop.gov. Please provide a copy of your comments to Alexandra Ritchie, Bureau Information Collection Clearance Officer (WO-630), Bureau of Land Management, Mail Stop 401LS, 1849 C Street, NW., Washington, DC 20240. Additionally, you may contact Alexandra Ritchie regarding this ICR at (202) 452-0388 (phone); (202) 653-5287 (fax); or Alexandra_Ritchie@blm.gov (e-mail).

FOR FURTHER INFORMATION CONTACT: For program-related questions, contact Roger Haskins on (202) 452-0355 (Commercial or FTS). Persons who use a telecommunications device for the deaf (TDD) may call the Federal Information Relay Service (FIRS) at 1-800-877-8330, 24 hours a day, seven days a week, to contact Mr. Haskins via message service. For questions regarding this ICR or the information collection process, contact Alexandra Ritchie by phone, mail, fax, or e-mail (see ADDRESSES).

SUPPLEMENTARY INFORMATION: OMB Control Number: 1004-0169.

Title: Use and Occupancy Under the Mining Laws, 43 CFR subpart 3715.

Bureau Form Number: Nonform information.

Type of Request: Revision of currently approved collection.

Affected Public: Private sector (mining claimants and operators of prospecting, exploration, mining, and processing operations).

Respondents' Obligation: Required to obtain or retain a benefit.

Frequency of Collection: On occasion.

Section of reg. | Title | Estimated number of responses | Estimated hours per response | Estimated total hours | Total compensation ($19.56 × 1.4) | Estimated annual cost to the public
43 CFR 3715.3-2 | Newly initiated or proposed occupancies | 25 | 2 | 50 | $27.38 | $1,400
43 CFR 3715.4 | Existing occupancies | 5 | 2 | 10 | 27.38 | 300
Total |  | 30 |  | 60 |  | 1,700

Abstract: The Bureau of Land Management proposes to extend the currently approved collection of information from mining claimants concerning use and occupancy of their mining claims on public lands. The nonform information authorizes the BLM to manage the use and occupancy on public lands for developing the mining deposits by mining claimants.

Comments: We again specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated, electronic, mechanical, or other forms of information technology.

Dated: June 17, 2008.
Alexandra Ritchie,
Bureau of Land Management, Acting Bureau Information Collection Clearance Officer.

[FR Doc. E8-14121 Filed 6-20-08; 8:45 am]

BILLING CODE 4310-84-P